DEPARTMENT OF DEFENSE

Office of the Secretary

Class Tuition Waiver

AGENCY: Department of Defense Education Activity (DoDEA), DoD.

ACTION: Notice.

SUMMARY: On August 3, 2009, the Deputy Under Secretary of Defense (Plans), Performing the Duties of the Under Secretary of Defense (Personnel and Readiness), signed a memorandum to the Director, Department of Defense Education Activity, designating for enrollment on a space-available, tuition-free basis, classes of dependents of military and diplomatic personnel whose nations participated in the Partnership for Peace (PfP) Program in Brussels and Mons, Belgium; Naples, Italy; London, United Kingdom; Brunssum, the Netherlands; and Oberammergau, Germany, prior to gaining status as full members of NATO during the period between January 2009 and January 2014. Subject to the availability of space, this waiver may be applied for the duration of the sponsor's tour not to exceed a total of three years for each eligible dependent. This class waiver is effective immediately.

FOR FURTHER INFORMATION CONTACT: Mr. Mike Lynch, 4040 North Fairfax Drive, Arlington, VA 22203-1635.

SUPPLEMENTARY INFORMATION: Please note that the availability of space in the Defense Dependents' Education System varies from year to year and is not guaranteed. Commanders should ensure that enrollments are timely and do not disrupt the dependent's or school's educational program.

Dated: September 23, 2009.
Patricia L. Toppings,
OSD Federal Register Liaison Officer, Department of Defense.

[FR Doc. E9-23416 Filed 9-28-09; 8:45 am]

BILLING CODE 5001-06-P